DEPARTMENT OF TRANSPORTATION

Federal Aviation Administration

14 CFR Part 71

[Docket No. FAA-2012-0411; Airspace Docket No. 12-ASO-26]

Amendment of Class E Airspace; Montgomery, AL

AGENCY: Federal Aviation Administration (FAA), DOT.

ACTION: Final rule, technical amendment.

SUMMARY: This action amends Class E Airspace in the Montgomery, AL area, by recognizing the name change of Prattville-Grouby Field Airport, formerly called Autauga Airport, and adjusts the geographic coordinates. This action does not change the boundaries or operating requirements of the airspace.

DATES: Effective date 0901 UTC, September 20, 2012. The Director of the Federal Register approves this incorporation by reference action under Title 1, Code of Federal Regulations, part 51, subject to the annual revision of FAA Order 7400.9 and publication of conforming amendments.

FOR FURTHER INFORMATION CONTACT: John Fornito, Operations Support Group, Eastern Service Center, Federal Aviation Administration, P.O. Box 20636, Atlanta, Georgia 30320; telephone (404) 305-6364.

SUPPLEMENTARY INFORMATION:

The Rule

This amendment to Title 14, Code of Federal Regulations (14 CFR) part 71 amends Class E airspace for the Montgomery, AL, area at the request of FAAs Aeronautical Products, by changing the airport formerly known as Autauga County Airport to Prattville-Grouby Field Airport. Also, the geographic coordinates of the airport are adjusted to coincide with the FAAs aeronautical database. Accordingly, since this is an administrative change, and does not affect the boundaries, altitudes, or operating requirements of the airspace, notice and public procedures under 5 U.S.C. 553 (b) are unnecessary.

The Class E airspace designations are published in Paragraph 6005 of FAA Order 7400.9V, dated August 9, 2011, and effective September 15, 2011, which is incorporated by reference in 14 CFR 71.1. The Class E airspace designations listed in this document will be published subsequently in the order.

The FAA has determined that this regulation only involves an established body of technical regulations for which frequent and routine amendments are necessary to keep them, operationally current, is non-controversial and unlikely to result in adverse or negative comments. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A. Subpart I, Section 40103. Under that section, the FAA is charged with prescribing regulations to assign the use of airspace necessary to ensure the safety of aircraft and the efficient use of airspace. This regulation is within the scope of that authority as it recognizes airport name changes for the Montgomery, AL, Class E airspace area.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

Lists of Subjects in 14 CFR Part 71

Airspace, Incorporation by reference, Navigation (air).

Adoption of Amendment

In consideration of the foregoing, the Federal Aviation Administration amends 14 CFR Part 71 as follows:

PART 71—DESIGNATION OF CLASS A, B, C, D, AND E AIRSPACE AREAS; AIR TRAFFIC SERVICE ROUTES; AND REPORTING POINTS

1. The authority citation for Part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9V, Airspace Designations and Reporting Points, dated August 9, 2011, effective September 15, 2011, is amended as follows:

Paragraph 6005 Class E airspace areas extending upward from 700 feet or more above the surface of the earth.

* * * * *

ASO AL E5 Montgomery, AL [Amended]

Montgomery Regional Airport—Dannelly Field, AL

(Lat. 32°18′02″N., long. 86°23′38″W.)

Montgomery VORTAC

(Lat. 32°13′20″N., long. 86°19′11″W.)

Maxwell AFB

(Lat. 32°22′45″N., long. 86°21′45″W.)

Prattville-Grouby Field Airport

(Lat. 32°26′19″N., long. 86°30′46″W.)

Wetumpka Municipal Airport

(Lat. 32°31′46″N., long. 86°19′42″W.)

That airspace extending upward from 700 feet above the surface within a 7-mile radius of Montgomery Regional Airport—Dannelly Field, and within 4 miles east and 8 miles west of the Montgomery VORTAC 138° radial extending from the 7-mile radius to 16 miles southeast of the Montgomery VORTAC, and within a 7-mile radius of Maxwell AFB, and within a 7-mile radius of Prattville-Grouby Field Airport, and within a 6.3-mile radius of Wetumpka Municipal Airport.

Issued in College Park, Georgia, on July 20, 2012.
Barry A. Knight,
Manager, Operations Support Group, Eastern Service Center, Air Traffic Organization.

[FR Doc. 2012-18522 Filed 7-30-12; 8:45 am]

BILLING CODE 4910-13-P